SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes a request for a new information collection, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The Information Collection Below Is Pending at SSA

SSA will submit it to OMB within 60 days from the date of this notice. To be sure we consider your comments, we must receive them no later than October 28, 2011. Individuals can obtain copies of the collection instrument by calling the SSA Reports Clearance Officer at 410-965-8783 or by writing to the above e-mail address.

Screen Pop—20 CFR 401.45—0960-New. Section 205(a) of the Social Security Act (Act) requires SSA to verify the identity of individuals who request a record or information pertaining to themselves, and to establish procedures for disclosing personal information. SSA has established Screen Pop, an automated telephone process, to speed up verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the SSA agent, the agent can use the SSN to access the caller's record as needed.

The respondents for this collection are individuals who contact SSA's N8NN to speak with an agent.

Type of Request: Request for a new information collection.

Number of Respondents: 34,000,000.

Frequency of Response: 1.

Average Burden per Response: 1 minute.

Estimated Annual Burden: 566,667 hours.

II. SSA Submitted the Information Collections Below to OMB for Clearance

Your comments regarding the information collections would be most useful if OMB and SSA receive them within 30 days from the date of this publication. To be sure we consider your comments, we must receive them no later than September 28, 2011. Individuals can obtain copies of the OMB clearance packages by calling the SSA Reports Clearance Officer at 410-965-8783 or by writing to the above e-mail address.

1. Application for Benefits Under a U.S. International Social Security Agreement—20 CFR 404.1925-0960-0448

Section 233(a) of the Act authorizes the President to broker international Social Security agreements (totalization agreements) between the United States and foreign countries. SSA collects information using Form SSA-2490-BK to determine entitlement to Social Security benefits from the United States, or from a country that enters into a totalization agreement with the United States. The respondents are individuals applying for Old Age Survivors and Disability Insurance benefits from the United States or from a totalization agreement country.

Type of Request: Revision of an OMB-approved information collection.

Form No. | Number of respondents | Frequency of response | Average burden per response (minutes) | Total annual burden (hours)
SSA-2490-BK (MCS) | 14,000 | 1 | 30 | 7,000
SSA-2490-BK (paper) | 2,000 | 1 | 30 | 1,000
Totals | 16,000 |  |  | 8,000

2. Plan for Achieving Self-Support (PASS)—20 CFR 416.110(e), 416.1180-1182, 416.1225-1227-0960-0559

The Supplemental Security Income (SSI) program encourages disability payment recipients to return to work. One of the program objectives is to provide incentives and opportunities that help recipients do this. The PASS provision allows individuals to use available income or resources (such as business equipment, education, or specialized training) to enter or re-enter the workforce and become self-supporting. In turn, SSA does not count the income or resources recipients use to fund a PASS when determining an individual's SSI eligibility or payment amount. An SSI recipient, who wants to use available income and resources to obtain education or training to become self-supporting, completes the SSA-545. SSA uses the information from the SSA-545 to evaluate the recipient's PASS, and to determine eligibility under the provisions of the SSI program.

The respondents are SSI recipients who are blind or disabled and want to develop a plan to work.

Note: This is a correction notice. SSA published this information collection as an extension on June 15, 2011 at 76 FR 35067. Since we are revising the Privacy Act Statement, this is now a revision of an OMB-approved information collection.

Type of Request: Revision of an OMB-approved information collection.

Number of Respondents: 7,000.

Frequency of Response: 1.

Average Burden Per Response: 2 hours.

Estimated Annual Burden: 14,000 hours.

3. Authorization To Disclose Information to SSA—20 CFR 404.1512 and 416.912, 45 CFR 160 and 164-0960-0623

SSA must obtain sufficient evidence to make eligibility determinations for Title II and Title XVI payments. Therefore, the applicant must authorize the release of information from various sources to SSA. The applicant uses the SSA-827 to provide consent for the release of medical records, education records, and other information related to his or her ability to perform tasks. Once the applicant completes the SSA-827, SSA or the State Disability Determination Service sends the form to the designated source(s) to obtain pertinent records. The respondents are applicants for Title II benefits and Title XVI payments.

Type of Request: Revision of an OMB-approved information collection.

Note: This is a correction notice: SSA published incorrect burden information for this collection at 76 FR 23640, on April 27, 2011. We are correcting the error here.

Modaility | Number of respondents | Frequency of response | Average burden per response (minutes) | Total annual burden (hours)
SSA-827 with electronic signature (adult first person only) | 2,530,000 | 1 | 9 | 379,500
SSA-827 with wet signature | 1,591,551 | 1 | 10 | 265,258
Reading the Internet Instructions | 708,100 | 1 | 3 | 35,405
Totals | 4,829,651 |  |  | 680,163

Dated: August 24, 2011.
Faye Lipsky,
Reports Clearance Officer, Center for Reports Clearance, Social Security Administration.

[FR Doc. 2011-22007 Filed 8-26-11; 8:45 am]

BILLING CODE 4191-02-P